DEPARTMENT OF AGRICULTURE

Forest Service

Southwest Oregon Province Advisory Committee

AGENCY: Forest Service, USDA.

ACTION: Notice of meeting.

SUMMARY: The Southwest Oregon Province Advisory Committee will meet on January 21, 2004 in Brookings, Oregon in the Best Western Beachfront Inn at 16008 Boat Basin Road. The meeting will begin at 9 a.m. and continue until 4 p.m. Agenda items to be covered include: (1) Development of Work Plan; (2) Public Forum; (3) Update on BLM Resource Management Plan revision process; (4) District and Forest Fire Plans; and (5) Future Agenda Items.

FOR FURTHER INFORMATION CONTACT: Direct questions regarding this meeting to Jim Hays, Province Advisory Committee Coordinator, USDA Forest Service, Prospect Ranger District, 47201 Highway 62, Prospect, Oregon 97536, phone (541) 560-3432.

Dated: December 17, 2003.
Scott D. Conroy,
Designated Federal Official.

[FR Doc. 03-31658 Filed 12-23-03; 8:45 am]

BILLING CODE 3410-11-M